DEPARTMENT OF HEALTH AND HUMAN SERVICES

National Institutes of Health

National Institute of Neurological Disorders and Stroke; Amended Notice of Meeting

Notice is hereby given of a change in the meeting of the National Institute of Neurological Disorders and Stroke Special Emphasis Panel, February 25, 2021, 10:00 a.m. to February 25, 2021, 6:30 p.m., National Institutes of Health, Neuroscience Center, 6001 Executive Boulevard, Rockville, MD 20852 (Virtual Meeting) which was published in the Federal Register on January 14, 2021, 86 FR 3164.

This notice is being amended to change the date of this one-day meeting to April 22, 2021. The meeting time remains the same. The meeting is closed to the public.

Dated: January 21, 2021.
Melanie J. Pantoja,
Program Analyst, Office of Federal Advisory Committee Policy.

[FR Doc. 2021-01701 Filed 1-26-21; 8:45 am]

BILLING CODE 4140-01-P